GENERAL SERVICES ADMINISTRATION

[Notice-PMAB-2014-01; Docket No. 2014-0002; Sequence No.14]

The President's Management Advisory Board (PMAB); Notification of Upcoming Public Advisory Meeting

AGENCY: Office of Executive Councils, U.S. General Services Administration (GSA).

ACTION: Meeting notice.

SUMMARY: The President's Management Advisory Board (PMAB), a Federal Advisory Committee established in accordance with the Federal Advisory Committee Act (FACA), 5 U.S.C., App., and Executive Order 13538, will hold a public meeting on Friday, April 25, 2014.

DATES: Effective: April 7, 2014.

Meeting date: The meeting will be held on Friday, April 25, 2014 beginning at 9:00 a.m. eastern time, ending no later than 1:00 p.m.

ADDRESSES: Eisenhower Executive Office Building, 1650 Pennsylvania Avenue NW., Washington, DC.

FOR FURTHER INFORMATION CONTACT: Mr. Stephen Brockelman, Designated Federal Officer, President's Management Advisory Board, Office of Executive Councils, General Services Administration, 1800 F Street NW., Washington, DC 20006, at stephen.brockelman@gsa.gov.

SUPPLEMENTARY INFORMATION: Background: The PMAB was established to provide independent advice and recommendations to the President and the President's Management Council on a wide range of issues related to the development of effective strategies for the implementation of best business practices to improve Federal Government management and operation.

Agenda: The main purpose of this meeting is for the PMAB to discuss and define their focus area for 2014, improving customer service in the Federal government. The meeting will aim to identify the challenges and opportunities for customer service improvement in various Federal agencies. The PMAB will also receive progress updates on management initiatives for which they issued recommendations in prior years. Finally, the meeting will cover planning and logistics for PMAB during the coming year.

Meeting Access: The PMAB will convene its meeting in the Eisenhower Executive Office Building, 1650 Pennsylvania Avenue NW., Washington, DC. Due to security, there will be no public admittance to the Eisenhower Building to attend the meeting. However, the meeting is open to the public; interested members of the public may view the PMAB's discussion at http://www.whitehouse.gov/live. Members of the public wishing to comment on the discussion or topics outlined in the Agenda should follow the steps detailed in Procedures for Providing Public Comments below.

Availability of Materials for the Meeting: Please see the PMAB Web site (http://www.whitehouse.gov/administration/advisory-boards/pmab) for any materials available in advance of the meeting and for meeting minutes that will be made available after the meeting. Detailed meeting minutes will be posted within 90 days of the meeting.

Procedures for Providing Public Comments: In general, public statements will be posted on the PMAB Web site (http://www.whitehouse.gov/administration/advisory-boards/pmab). Non-electronic documents will be made available for public inspection and copying in PMAB offices at GSA, 1800 F Street NW., Washington, DC 20006, on official business days between the hours of 10 a.m. and 5 p.m. eastern time. You can make an appointment to inspect statements by telephoning 202-501-1398. All statements, including attachments and other supporting materials, received are part of the public record and subject to public disclosure. Any statements submitted in connection with the PMAB meeting will be made available to the public under the provisions of the Federal Advisory Committee Act.

The public is invited to submit written statements for this meeting until 12:30 p.m. eastern time on Thursday, April 24, by either of the following methods: Electronic or Paper Statements: Submit electronic statements to Mr. Brockelman, Designated Federal Officer at stephen.brockelman@gsa.gov; or send paper statements in triplicate to Mr. Brockelman at the PMAB GSA address above.

Dated: April 1, 2014.
Anne Rung,
Associate Administrator, Office of Government-wide Policy, General Services Administration.

[FR Doc. 2014-07755 Filed 4-4-14; 8:45 am]

BILLING CODE 6820-BR-P